DEPARTMENT OF TRANSPORTATION

Federal Aviation Administration

Waiver of Aeronautical Land-Use Assurance: Kansas City International Airport (MCI), Kansas City, MO

AGENCY: Federal Aviation Administration (FAA), DOT.

ACTION: Notice of Intent of Waiver with respect to land.

SUMMARY: The Federal Aviation Administration (FAA) is considering a proposal from the Kansas City Aviation Department (sponsor), Kansas City, MO, to release a 14.94 ± acre parcel of land from the federal obligation dedicating it to aeronautical use and to authorize this parcel to be used for revenue-producing, non-aeronautical purposes.

DATES: Comments must be received on or before August 24, 2015.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: Mark VanLoh, Director of Aviation Department, Kansas City International Airport, P.O. Box 20047, 601 Brasilia Ave., Kansas City, MO 64153-2054, (816) 243-3031.

FOR FURTHER INFORMATION CONTACT: Lynn D. Martin, Airports Compliance Specialist, Federal Aviation Administration, Airports Division, ACE-610C, 901 Locust Room 364, Kansas City, MO 64106, Telephone number (816) 329-2644, Fax number (816) 329-2611, email address: lynn.martin@faa.gov.

SUPPLEMENTARY INFORMATION: The FAA invites public comment on the request to change approximately 14.94± acres of airport property at the Kansas City International Airport (MCI) from aeronautical use to non-aeronautical for revenue producing use. The parcel of land is located along NW. Prairie View Drive. This parcel will be used for construction and operation of the Kansas City Police North Patrol Station.

No airport landside or airside facilities are presently located on this parcel, nor are airport developments contemplated in the future. The current use is agricultural and grass fields. The parcel will serve as a revenue producing lot with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Kansas City International Airport (MCI) is proposing the release of one parcel, of 14.94± acres, from aeronautical to non-aeronautical. The release of land is necessary to comply with Federal Aviation Administration Grant Assurances that do not allow federally acquired airport property to be used for non-aviation purposes. The rental of the subject property will result in the land at the Kansas City International Airport (MCI) being changed from aeronautical to nonaeronautical use and release the lands from the conditions of the Airport Improvement Program Grant Agreement Grant Assurances. In accordance with 49 U.S.C. 47107(c)(2)(B)(i) and (iii), the airport will receive fair market rental value for the property. The annual income from rent payments will generate a long-term, revenue-producing stream that will further the Sponsor's obligation under FAA Grant Assurance number 24, to make the Kansas City International Airport as financially self-sufficient as possible.

Following is a legal description of the subject airport property at the Kansas City International Airport (MCI):

All that part of the Northeast Quarter of Section 26, Township 52, Range 34, Kansas City, Platte County, Missouri, more particularly described as follows: Commencing at the Southwest Corner of the Northeast quarter of said section 26; thence North 00°08′46″ East, along the West line of said Northeast quarter, 631.67 feet; thence South 89°44′24″ East, 20.61 feet to the point of beginning; thence North 00°15′36″ East, 824.98 feet; thence in a Northeasterly direction along a curve to the right tangent to the last described course, having a radius of 15.00 feet through a central angle of 104°01′35″, an arc distance of 27.23 feet to a point of reverse curve; thence in an Easterly direction along a curve to the left, having a radius of 613.66 feet through a central angle of 44°26′27″, an arc distance of 475.98 feet to a point of reverse curve; thence in an Easterly direction along a curve to the right, having a radius of 15.00 feet through a central angle of 90°39′40″, an arc distance of 23.73 feet to the Westerly right-of-way line of Interstate Highway Route No. 29 as described in Book 1 at Page 93; thence along the Westerly right-of-way line of said Interstate Highway Route No. 29 the following courses and distances: South 29°29′37″ East 670.83 feet to a point 40 feet opposite center line station 74+50; thence South 60°30′23″ West, 5.00 feet to a point 45 feet opposite center line station 74+50; thence South 29°29′37″ East, 350.00 feet to a point 45 feet opposite center line station 78+00; thence North 60°30′23″ East, 5.00 feet to a point 40 feet opposite center line station 78+00; thence South 29°29′37″ East, 16.05 feet; thence leaving the Easterly right-of-way line of said Interstate Highway Route No. 29, North 89°44′24″ West, 1013.23 feet to the point of beginning, containing 14.94 acres, more or less.

Any person may inspect, by appointment, the request in person at the FAA office listed above FOR FURTHER INFORMATION CONTACT. In addition, any person may, upon appointment and request, inspect the application, notice and other documents determined by the FAA to be related to the application in person at the Kansas City International Airport.

Issued in Kansas City, MO on July 16, 2015.
Jim A. Johnson,
Manager, Airports Division.

[FR Doc. 2015-18011 Filed 7-22-15; 8:45 am]

BILLING CODE 4910-13-P